DEPARTMENT OF HEALTH AND HUMAN SERVICES

Administration for Children and Families

Submission for OMB Review; Administration and Oversight of the Unaccompanied Children Program (OMB #0970-0547)

AGENCY: Office of Refugee Resettlement, Administration for Children and Families, Department of Health and Human Services.

ACTION: Request for public comment.

SUMMARY: The Office of Refugee Resettlement (ORR), Administration for Children and Families (ACF), U.S. Department of Health and Human Services (HHS), is inviting public comments on revisions to an approved information collection. The request consists of several forms that allow the Unaccompanied Children (UC) Program to monitor care provider facility compliance with federal laws and regulations, legal agreements, and ORR policies and procedures; and perform other administrative tasks.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: ORR received several comments on this information collection in response to the Federal Register Notice published on January 6, 2021, (86 FR 545) and has provided responses to those comments in its final submission to OMB. UC Path is critical to program operations and it is important that rollout of the new system not be delayed. Therefore, the below description details what will be included in the initial launch of the UC Path case management system and revisions based on public comments will be made after initial launch. ORR plans to conduct a deliberative review of commenters' suggestions and concerns and submit a request for revisions to this information collection request in January 2022. The upcoming information collection request will also include revisions based on feedback from UC Path system users (i.e., ORR grantee, contractor, and federal staff).

A. ORR plans to revise six instruments currently approved under OMB #0970-0547. Four of the revised instruments will be incorporated into ORR's new case management system, UC Path. The other two revised instruments are and will remain PDF instruments. In addition, ORR plans to add four new instruments to this collection—two will be incorporated into UC Path and two will be in PDF format. ORR also plans to remove one currently approved instrument from this collection. Finally, ORR plans to replace the term “unaccompanied alien child (UAC)” with “unaccompanied child (UC)” throughout the instruments in this collection.

1. Care Provider Facility Tour Request (Form A-1A): This instrument is used by advocacy groups, faith-based organizations, researchers, government officials, and other stakeholders to request tours of ORR care provider facilities. After the request is received, ORR documents its decision and details regarding date and location of the tour, if applicable, and provides the completed form to the requester. No revisions are currently requested; ORR plans to continue use of this form as-is.

2. Notice to UC for Flores Visits (Forms A-4 & A-4s): This instrument is used by care provider facilities to notify UC of upcoming visits by Flores counsel (lawyers and volunteers from the organization that originally participated in the creation of the Flores Settlement Agreement) and allows UC to add their name to a sign-up sheet if they are willing to speak with Flores counsel. ORR updated the Spanish translation of this PDF instrument.

3. Authorization for Release of Records (Form A-5): This instrument is used by attorneys, legal service providers, government agencies, and other stakeholders to request UC case file records. In most cases, requesters are required to obtain the signature of the subject of the record request (UC or their parent/legal guardian or sponsor) and a witness. ORR made the following revisions:

○ Added a section in which ORR-funded legal service providers are required to certify their representation of the child.

○ Added a separate area where sponsors may authorize the release of their records.

○ Updated the required supporting documentation for a representative of a federal/state government agency or the National Center for Missing and Exploited Children to further require that the requester specify the scope of their investigation and provide a case reference number.

○ Clarified in the instructions that ORR will not release any records that are clearly outside of the scope of a government agency's investigation absent a court-issued subpoena or order.

4. Notification of Concern (Form A-7): This instrument is used by home study and post-release service caseworkers, care provider case managers, and the ORR National Call Center to notify ORR of certain concerns that arise after a UC is released from ORR custody. This is a new instrument that ORR plans to add to this collection.

5. Event (Form A-9): This instrument is used by ORR care provider programs to document high-level information about situations that must be reported to ORR. Creating an Event is the first step in creating any type of incident report (see forms A-10A to A-10C below), PLE Report (see form A-10D below), or Notification of Concern (see form A-7 above). After an Event is created, an incident report or Notification of Concern is created for each UC involved in the incident and linked to the Event. For program-level events, one PLE Report is created and linked to the Event. Event information is visible in each individual report/notification report. This instrument was previously approved as part of ORR's various incident reports (Forms A-10A to A-10D). ORR is listing it separately, as a new instrument, to better align instruments in this collection with how data will be entered in UC Path. Some fields that were previously entered in each incident report have been moved into this instrument so that they only need to be entered once. The form also contains several new fields that capture additional information about the location and timeframe of the event. Please note that internal form number A-9 was previously assigned to the Program-Level Event Report.

6. Emergency Significant Incident Report (SIR) and Addendum (Form A-10A): This instrument is used by ORR care provider programs to inform ORR of urgent situations in which there is an immediate threat to a child's safety and well-being that require instantaneous action. In some cases, an Emergency SIR Addendum may be required to provide additional information obtained after the initial report. ORR made the following revisions:

○ Revised the available options for the category and subcategory fields.

○ Added fields to capture additional detail on individuals involved in the incident, actions taken, and video footage.

○ Added fields to capture additional information related to reporting of incidents to child protective services, state licensing agencies, and local law enforcement.

○ Added a disposition field to indicate whether the incident is closed or if the incident is open and further action is required.

○ Updated functionality for the list of individuals who need to be notified of the incident so that it is auto-populated and notification emails can be sent from within the UC Path system.

○ Updated internal form numbering so that reports and addendums fall under the same form number.

7. Significant Incident Report (SIR) and Addendum (Form A-10B): This instrument is used by ORR care provider programs to inform ORR of situations that affect, but do not immediately threaten, the safety and well-being of a child. In some cases, an SIR Addendum may be required to provide additional information obtained after the initial report. ORR made the following revisions:

○ Revised the available options for the category and subcategory fields.

○ Added fields to capture additional detail on individuals involved in the incident, actions taken, and video footage.

○ Added fields to capture additional information related to reporting of incidents to child protective services, state licensing agencies, and local law enforcement.

○ Added a disposition field to indicate whether the incident is closed or if the incident is open and further action is required.

○ Updated functionality for the list of individuals who need to be notified of the incident so that it is auto-populated and notification emails can be sent from within the UC Path system.

○ Updated internal form numbering so that reports and addendums fall under the same form number.

8. Sexual Abuse Significant Incident Report (SA/SIR) and Addendum (Form A-10C): This instrument is used by ORR care provider programs to inform ORR of allegations of sexual harassment, sexual abuse, and inappropriate sexual behavior that occurred while the UC was in ORR custody. In some cases, an SA/SIR Addendum may be required to provide additional information obtained after the initial report. ORR made the following revisions:

○ Revised the available options for the category and subcategory fields.

○ Added fields to capture additional detail on individuals involved in the incident, actions taken, and video footage.

○ Added fields to capture additional information related to reporting of incidents to child protective services, state licensing agencies, and local law enforcement.

○ Added a disposition field to indicate whether the incident is closed or if the incident is open and further action is required.

○ Updated functionality for the list of individuals who need to be notified of the incident so that it is auto-populated and notification emails can be sent from within the UC Path system.

○ Updated internal form numbering so that reports and addendums fall under the same form number.

9. Program-Level Event (PLE) Report and Addendum (Form A-10D): This instrument is used by ORR care provider programs to inform ORR of events that may affect the entire care provider facility, such as an active shooter or natural disaster. An updated PLE Report is required for events that occur over multiple days or if the situation changes regarding the event. ORR made the following revisions:

○ Revised the available options for the category and subcategory fields.

○ Added fields to capture additional detail on individuals involved in the incident, actions taken, and video footage.

○ Added fields to capture additional information related to reporting of incidents to child protective services, state licensing agencies, and local law enforcement.

○ Added a disposition field to indicate whether the incident is closed or if the incident is open and further action is required.

○ Updated functionality for the list of individuals who need to be notified of the incident so that it is auto-populated and notification emails can be sent from within the UC Path system.

○ Updated internal form numbering so that reports and addendums fall under the same form number.

10. Hotline Alert (Form A-12): ORR is discontinuing this instrument. In UC Path, the ORR National Call Center will use the Notification of Concern instead of the Hotline Alert.

11. Key Personnel Minimum Qualifications Checklist and Attestation (Form A-14): This instrument is used by ORR care provider programs to request hiring approval for key positions, as required in the ORR cooperative agreement, and, if applicable, request a waiver of minimum qualifications when appropriately justified. This is a new instrument that ORR plans to add to this collection and is currently approved under OMB #0970-0558.

12. ORR Waiver Request (Form A-15): This instrument is used by ORR care provider programs to request a waiver of a permissible regulatory, policy, procedure, or cooperative agreement requirement. ORR considers waiver requests when appropriately justified and when the safety and well-being of children in ORR custody would not be adversely affected. ORR does not have the authority to waive federal or state statute or state regulations and may only waive certain provisions of federal regulations where specified by the regulation. This is a new instrument that ORR plans to add to this collection and is currently approved under OMB #0970-0558.

B. ORR plans to remove the term “alien” from the title of this information collection and revise it to read “Administration and Oversight of the Unaccompanied Children Program.”

C. ORR intends to conduct a phased rollout of the UC Path system. Beginning fall 2021, ORR plans to roll the UC Path system out to a small group of care provider programs. ORR will gradually expand use of the system to other programs and expects all care provider programs will be using UC Path by spring 2022. To ensure continuity of operations, care provider programs will need the ability to continue using instruments in the UC Portal system while they are waiting to transition over to the UC Path system. Therefore, ORR proposes continued use of the following UC Portal (ORR's current case management system) instruments, concurrently with the UC Path versions of the same instruments, until all care provider programs are using UC Path.

• Emergency Significant Incident Report and Addendum (Form A-10A)

• Significant Incident Report and Addendum (Form A-10B)

• Sexual Abuse Significant Incident Report and Addendum (Form A-10C)

• Program-Level Event Report and Addendum (Form A-10D)

Respondents: ORR grantee and contractor staff; advocacy groups, faith-based organizations, researchers, and government officials; attorneys, legal service providers, child advocates, and government agencies; and other stakeholders.

Annual Burden Estimates
Instrument | Annual number of respondents | Annual number of responses per respondent | Average burden minutes per response | Annual total burden hours
Respondents
Care Provider Facility Tour Request (Form A-1A) | 200 | 1 | 10 | 33
Notice to UC for Flores Visits (Forms A-4 & A-4s) | 20 | 1 | 15 | 5
Authorization for Release of Records (Form A-5) | 4,000 | 1 | 15 | 1,000
Notification of Concern (Form A-7) | 60 | 75 | 15 | 1,125
Event (Form A-9) | 276 | 160 | 10 | 7,360
Emergency Significant Incident Report and Addendum (Form A-10A) | 216 | 14 | 60 | 3,024
Significant Incident Report and Addendum (Form A-10B) | 216 | 491 | 60 | 106,056
Sexual Abuse Significant Incident Report and Addendum (Form A-10C) | 216 | 47 | 60 | 10,152
Program Level Event (Form A-10D) | 216 | 7 | 60 | 1,512
Key Personnel Minimum Qualifications Checklist and Attestation (Form A-14) | 235 | 9 | 10 | 353
ORR Waiver Request (Form A-15) | 235 | 2 | 20 | 157
Estimated Annual Burden Hours Total |  |  |  | 130,777
Record Keepers
Care Provider Facility Tour Request (Form A-1A) | 216 | 1 | 120 | 432
Authorization for Release of Records (Form A-5) | 216 | 19 | 20 | 1,368
Estimated Annual Burden Hours Total |  |  |  | 1,800

Authority: 6 U.S.C. 279; 8 U.S.C. 1232; Flores v. Reno Settlement Agreement, No. CV85-4544-RJK (C.D. Cal. 1996).

Mary B. Jones,
ACF/OPRE Certifying Officer.

[FR Doc. 2021-20918 Filed 9-24-21; 8:45 am]

BILLING CODE 4184-45-P